SUSQUEHANNA RIVER BASIN COMMISSION

Projects Approved for Consumptive Uses of Water

AGENCY: Susquehanna River Basin Commission.

ACTION: Notice.

SUMMARY: This notice lists the projects approved by rule by the Susquehanna River Basin Commission during the period set forth in DATES.

DATES: June 1-30, 2021.

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.net. Regular mail inquiries May be sent to the above address.

SUPPLEMENTARY INFORMATION: This notice lists the projects, described below, receiving approval for the consumptive use of water pursuant to the Commission's approval by rule process set forth in 18 CFR 806.22 (f) for the time period specified above:

Water Source Approval—Issued Under 18 CFR 806.22(f)

1. Seneca Resources Company, LLC; Pad ID: Watkins 820; ABR-201106011.R2; Chatham Township, Tioga County, Pa.; Consumptive Use of Up to 4.0000 mgd; Approval Date: June 14, 2021.

2. Chesapeake Appalachia, L.L.C.; Pad ID: GB; ABR-201106007.R2; Rush Township, Susquehanna County, Pa.; Consumptive Use of Up to 7.5000 mgd; Approval Date: June 14, 2021.

3. BKV Operating, LLC; Pad ID: Kile; ABR-201103026.R2; Washington Township, Wyoming County; Pa.; Consumptive Use of Up to 5.0000 mgd; Approval Date: June 14, 2021.

4. LPR Energy, LLC; Pad ID: PA Smithmyer Drilling Pad #1; ABR-201101020.R2; Clearfield Township, Cambria County, Pa.; Consumptive Use of Up to 2.0000 mgd; Approval Date: June 15, 2021.

5. BKV Operating, LLC; Pad ID: Johnston 1 Pad; ABR-201106009.R2; Meshoppen Township, Wyoming County, Pa.; Consumptive Use of Up to 5.0000 mgd; Approval Date: June 21, 2021.

6. Chesapeake Appalachia, L.L.C.; Pad ID: IH; ABR-201106014.R2; Stevens Township, Bradford County, Pa.; Consumptive Use of Up to 7.5000 mgd; Approval Date: June 21, 2021.

7. Chesapeake Appalachia, L.L.C.; Pad ID: J & J; ABR-201106015.R2; Smithfield Township, Bradford County, Pa.; Consumptive Use of Up to 7.5000 mgd; Approval Date: June 21, 2021.

8. Chesapeake Appalachia, L.L.C.; Pad ID: Knickerbocker; ABR-201106013.R2; Franklin Township, Bradford County, Pa.; Consumptive Use of Up to 7.5000 mgd; Approval Date: June 21, 2021.

9. Chesapeake Appalachia, L.L.C.; Pad ID: Mel; ABR-201106012.R2; Franklin Township, Bradford County, Pa.; Consumptive Use of Up to 7.5000 mgd; Approval Date: June 21, 2021.

10. Chesapeake Appalachia, L.L.C.; Pad ID: Neal; ABR-201106010.R2; Leroy Township, Bradford County, Pa.; Consumptive Use of Up to 7.5000 mgd; Approval Date: June 21, 2021.

11. Repsol Oil & Gas USA, LLC; Pad ID: DORN (02 180) A; ABR-201604003.R1; Hamilton Township, Tioga County, Pa.; Consumptive Use of Up to 6.0000 mgd; Approval Date: June 21, 2021.

12. Cabot Oil & Gas Corporation; Pad ID: Augustine P1; ABR-201105002.R2; Springville Township, Susquehanna County, Pa.; Consumptive Use of Up to 5.0000 mgd; Approval Date: June 21, 2021.

13. ARD Operating, LLC; Pad ID: COP Tract 728 Pad G; ABR-201105007.R2; Watson Township, Lycoming County, Pa.; Consumptive Use of Up to 4.0000 mgd; Approval Date: June 22, 2021.

14. ARD Operating, LLC; Pad ID: COP Tract 728 Pad H; ABR-201105006.R2; Watson Township, Lycoming County, Pa.; Consumptive Use of Up to 4.0000 mgd; Approval Date: June 22, 2021.

15. Chesapeake Appalachia, L.L.C.; Pad ID: Quail; ABR-201106018.R2; Fox Township, Sullivan County, Pa.; Consumptive Use of Up to 7.5000 mgd; Approval Date: June 24, 2021.

16. Chesapeake Appalachia, L.L.C.; Pad ID: Wootten; ABR-201106016.R2; Mehoopany Township, Wyoming County, Pa.; Consumptive Use of Up to 7.5000 mgd; Approval Date: June 24, 2021.

17. Clean Energy Exploration & Production, LLC; Pad ID: Whispering Pines Pad 1; ABR-201606004.R1; Delmar Township, Tioga County, Pa.; Consumptive Use of Up to 4.0000 mgd; Approval Date: June 24, 2021.

18. Chesapeake Appalachia, L.L.C.; Pad ID: Lambs Farm; ABR-201106023.R2; Smithfield Township, Bradford County, Pa.; Consumptive Use of Up to 7.5000 mgd; Approval Date: June 29, 2021.

19. Chesapeake Appalachia, L.L.C.; Pad ID: Nichols; ABR-201106024.R2; Smithfield Township, Bradford County, Pa.; Consumptive Use of Up to 7.5000 mgd; Approval Date: June 29, 2021.

20. Repsol Oil & Gas USA, LLC; Pad ID: ALDERSON (05 011) V; ABR-201104008.R2; Pike Township, Bradford County, Pa.; Consumptive Use of Up to 6.0000 mgd; Approval Date: June 29, 2021.

21. ARD Operating, LLC; Pad ID: Salt Run Pad A Ext; ABR-202107001; Cascade Township, Lycoming County, Pa.; Consumptive Use of Up to 4.0000 mgd; Approval Date: June 30, 2021.

Approvals By Rule—Issued Under 18 CFR 806.22(f)—Revocation

1. Seneca Resources Company, LLC; Pad ID: Signor 566; ABR-201010054.R2; Charleston Township, Tioga County, Pa.; Revocation Date: June 22, 2021.

2. XTO Energy, Inc.; Pad ID: TLT Unit A; ABR-201107017.R2; Jordan Township, Lycoming County, Pa.; Revocation Date: June 30, 2021.

Authority: Pub. L. 91-575, 84 Stat. 1509 et seq., 18 CFR parts 806, 807, and 808.

Dated: July 14, 2021.
Jason E. Oyler,
General Counsel and Secretary to the Commission.

[FR Doc. 2021-15263 Filed 7-16-21; 8:45 am]

BILLING CODE 7040-01-P